DEPARTMENT OF THE INTERIOR

Bureau of Ocean Energy Management

Gulf of Mexico (GOM), Outer Continental Shelf (OCS), Western Planning Area (WPA) Lease Sale 233 and Central Planning Area (CPA) Lease Sale 231, Oil and Gas Lease Sales

AGENCY: Bureau of Ocean Energy Management (BOEM), Interior.

ACTION: Notice of Availability (NOA) of the Draft Supplemental Environmental Impact Statement (EIS) and Public Meetings.

Authority: This NOA is published pursuant to the regulations (40 CFR 1503) implementing the provisions of the National Environmental Policy Act (NEPA) of 1969, as amended (42 U.S.C. 4321 et seq.).

SUMMARY: BOEM has prepared a Draft Supplemental EIS for oil and gas lease sales tentatively scheduled in 2013 and 2014 in the WPA and CPA offshore the States of Texas, Louisiana, Mississippi, and Alabama. This Draft Supplemental EIS updates the environmental and socioeconomic analyses for proposed WPA Lease Sale 233 and proposed CPA Lease Sale 231, which was completed in July 2012, as part of the 2012-2017 Multisale EIS. The 2012-2017 Multisale EIS covers planning areas in the Gulf of Mexico OCS Oil and Gas Lease Sales: Western Planning Area Lease Sales 229, 233, 238, 246, and 248; and Central Planning Area Lease Sales 227, 231, 235, 241, and 247.

SUPPLEMENTARY INFORMATION: BOEM developed this Draft Supplemental EIS for proposed WPA Lease Sale 233 and proposed CPA Lease Sale 231 to consider new information made available since completion of the 2012-2017 Multisale EIS and to consider, among other things, new information in light of the Deepwater Horizon event. This Draft Supplemental EIS provides updates on the baseline conditions and potential environmental effects of oil and natural gas leasing, exploration, development, and production in the WPA and CPA. BOEM conducted an extensive search for new information in consideration of the Deepwater Horizon event, reviewing scientific journals, available scientific data, and information from academic institutions and Federal, State, and local agencies. BOEM also interviewed personnel from academic institutions and Federal, State, and local agencies. BOEM has examined the potential impacts of routine activities and accidental events, and the proposed lease sales' incremental contribution to the cumulative impacts on environmental and socioeconomic resources.

Draft Supplemental EIS Availability: BOEM has printed and will distribute a limited number of paper copies of the Draft Supplemental EIS. In keeping with the Department of the Interior's mission of protecting natural resources, and to limit costs while ensuring availability of the document to the public, BOEM will primarily distribute digital copies of this Draft Supplemental EIS on compact discs. If you require a paper copy and copies are still available, BOEM will provide one upon request.

You may request a copy of the Draft Supplemental EIS from the Bureau of Ocean Energy Management, Gulf of Mexico OCS Region, Public Information Office (GM 250G), 1201 Elmwood Park Boulevard, Room 250, New Orleans, Louisiana 70123-2394 (1-800-200-GULF).

You may download or view the Draft Supplemental EIS on BOEM's Internet Web site at http://www.boem.gov/Environmental-Stewardship/Environmental-Assessment/NEPA/nepaprocess.aspx.

Several libraries along the Gulf Coast have been sent copies of the Draft Supplemental EIS. To find out which libraries have copies of the Draft Supplemental EIS for review, you may contact BOEM's Public Information Office (phone number and address above) or visit BOEM's Internet Web site at http://www.boem.gov/Environmental-Stewardship/Environmental-Assessment/NEPA/nepaprocess.aspx.

Comments: Federal, state, and local government agencies and other interested parties are requested to send their written comments on the Draft Supplemental EIS in one of the following two ways:

1. In an envelope labeled “Comments on the Draft Supplemental EIS” and mailed (or hand carried) to Mr. Gary D. Goeke, Chief, Regional Assessment Section, Office of Environment (GM 623E), Bureau of Ocean Energy Management, Gulf of Mexico OCS Region, 1201 Elmwood Park Boulevard, New Orleans, Louisiana 70123-2394.

2. To the following BOEM email address: LS_233-231SEIS@boem.gov. Comments should be submitted no later than December 24, 2012.

Public Meetings: BOEM also will hold public meetings to obtain comments regarding the Draft Supplemental EIS. These meetings are scheduled as follows:

• Houston, Texas: December 03, 2012, Houston Airport Marriott at George Bush Intercontinental, 18700 John F. Kennedy Boulevard, Houston, Texas 77032, beginning at 1:00 p.m. CST;

• New Orleans, Louisiana: December 04, 2012, Bureau of Ocean Energy Management, 1201 Elmwood Park Boulevard, New Orleans, Louisiana 70123, beginning at 1:00 p.m. CST;

• Gulfport, Mississippi: December 05, 2012, Courtyard by Marriott Gulfport Beachfront MS Hotel, 1600 East Beach Boulevard, Gulfport, Mississippi 39501, beginning at 1:00 CST;

• Mobile, Alabama: December 06, 2012, Five Rivers—Alabama's Delta Resource Center, 30945 Five Rivers Boulevard, Spanish Fort, Alabama 36527, beginning at 1:00 p.m. CST.

FOR FURTHER INFORMATION CONTACT: For more information on the Draft Supplemental EIS, you may contact Mr. Gary D. Goeke, Bureau of Ocean Energy Management, Gulf of Mexico OCS Region, Office of Environment (GM623E), 1201 Elmwood Park Boulevard, New Orleans, Louisiana 70123-2394 or by email at LS_233-231SEIS@boem.gov. You may also contact Mr. Goeke by telephone at (504) 736-3233.

Public Disclosure of Names and Addresses

Before including your address, phone number, email address, or other personal identifying information in your comment, please be advised that your entire comment, including your personal identifying information, may be made publicly available at any time. While you can ask us in your comment to withhold from public review your personal identifying information, we cannot guarantee that we will be able to do so.

Dated: November 6, 2012.
Tommy P. Beaudreau,
Director, Bureau of Ocean Energy Management.

[FR Doc. 2012-27519 Filed 11-8-12; 8:45 am]

BILLING CODE 4310-MR-P